SOCIAL SECURITY ADMINISTRATION

[Docket No. SSA-2019-0005]

Agreement on Social Security Between the United States and Iceland; Entry Into Force

AGENCY: Social Security Administration.

ACTION: Notice.

SUMMARY: We are giving notice that an agreement coordinating the United States (U.S.) and Icelandic social security programs will go into force effective on March 1, 2019. The Agreement with Iceland, which was signed on September 27, 2016, is similar to U.S. social security agreements already in force with 29 other countries—Australia, Austria, Belgium, Brazil, Canada, Chile, the Czech Republic, Denmark, Finland, France, Germany, Greece, Hungary, Ireland, Italy, Japan, Korea (South), Luxembourg, the Netherlands, Norway, Poland, Portugal, the Slovak Republic, Slovenia, Spain, Sweden, Switzerland, the United Kingdom, and Uruguay. Section 233 of the Social Security Act authorizes agreements of this type.

SUPPLEMENTARY INFORMATION: Like the other agreements, the U.S.-Icelandic Agreement eliminates dual social security coverage. This situation exists when a worker from one country works in the other country and has coverage under the social security systems of both countries for the same work. Without such agreements in force, when dual coverage occurs, the worker, the worker's employer, or both may be required to pay social security contributions to the two countries simultaneously. Under the U.S.-Icelandic Agreement, a worker who is sent by an employer in one country to work in the other country for 5 or fewer years remains covered only by the sending country. The Agreement includes additional rules that eliminate dual U.S. and Icelandic coverage in other work situations.

The Agreement also helps eliminate situations where workers suffer a loss of benefit rights because they have divided their careers between the two countries. Under the Agreement, workers may qualify for partial U.S. benefits or partial Icelandic benefits based on combined (totalized) work credits from both countries.

Persons who wish to receive copies of the Agreement or who want more information about its provisions may write to the Social Security Administration, Office of Data Exchange, Policy Publications, and International Negotiations, 4700 Annex Building, 6401 Security Boulevard, Baltimore, MD 21235, or visit the Social Security website at www.socialsecurity.gov/international. The full text of the Agreement and its accompanying Administrative Arrangement are available at https://www.ssa.gov/international/Agreement_Texts/iceland.html.

Nancy A. Berryhill,
Acting Commissioner of Social Security.

[FR Doc. 2019-03271 Filed 2-25-19; 8:45 am]

BILLING CODE 4191-02-P